DEPARTMENT OF DEFENSE

Office of the Secretary

[Transmittal No. 0A-16]

36(b)(5)(C) Arms Sales Notification

AGENCY: Defense Security Cooperation Agency, Department of Defense.

ACTION: Notice.

SUMMARY: The Department of Defense is publishing the unclassified text of a section 36(b)(5)(C) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 0A-16 with attached Policy Justification.

Dated: January 4, 2016.
Aaron Siegel,
Alternate OSD Federal Register Liaison Officer, Department of Defense.

BILLING CODE 5001-06-P

Transmittal No. 0A-16

REPORT OF ENHANCEMENT OR UPGRADE OF SENSITIVITY OF TECHNOLOGY OR CAPABILITY (SEC. 36(B)(5)(C), AECA)

(i) Purchaser: Government of Qatar

(ii) Sec. 36(b)(l), AECA Transmittal No.: 13-33

Date: 29 July 2013

Military Department: Air Force

(iii) Description: On 29 July 2013, Congress was notified by Congressional certification transmittal number 13-33, of the possible sale under Section 36(b)(l) of the Arms Export Control Act of one (1) AN/FPS-132 Block 5 Early Warning Radar (EWR) to include a Prime Mission Equipment package; technical and support facilities; communication equipment; encryption devices; spare and repair parts; support and test equipment, publications and technical documentation; personnel training and training equipment; U.S. Government and contractor engineering, technical, and logistics support services; and related elements of logistics and program support. The estimated total cost was $1.2 billion. Major Defense Equipment (MDE) constituted $800 million of the total.

This transmittal reports the replacement of the original AN/FPS-132 Block 5 EWR with the AN/FPS-132 Block 15 EWR. The Block 15 EWR has an increased maximum range. Upgrading the status of this equipment will result in an estimated net increase in MDE cost of $800 million. The revised estimated total value is $2 billion, with the revised MDE value constituting $1.6 billion of this new total.

(iv) Significance: The EWR will be a component of Qatar's planned air and missile defense system, which includes the Terminal High Altitude Area Defense (THAAD) and Patriot missile defense systems. The EWR will provide sensor data and advanced warning of incoming missiles. The Block 15 system employs three electronically steered phased array radar faces to provide 360 degree azimuth coverage. The Block 15 system is also capable of reporting airborne tracks.

(v) Justification: This proposed sale contributes to the foreign policy and national security of the United States by helping to improve the security of a friendly country. Qatar is an important force for political stability and economic progress in the Persian Gulf region. This proposed sale strengthens U.S. efforts to promote regional stability by enhancing the defense to a key United States ally. The proposed sale strengthens Qatar's capability to counter current and future threats in the region and reduce dependence on United States forces. Qatar should have no difficulty integrating this radar into its defense systems.

(vi) Date Report Delivered to Congress: 08 DEC 2015

(vii) Sensitivity of Technology:

1. The AN/FPS-132 Block 15 supports Missile Defense, Space Situational Awareness, and Missile Warning mission areas. The Block 15 system employs 3 electronically steered phased array radar faces to provide 360 degree azimuth coverage. The Block 15 system is capable of detecting ballistic missiles up to a maximum range of 5,000 km. The AN/FPS-132 Block 15 hardware is UNCLASSIFIED. The AN/FPS-132 Block 15 software and the data produced are classified SECRET REL QATAR.

2. If a technologically advanced adversary were to obtain knowledge of the specific hardware or software in this proposed sale, the information could be used to develop countermeasures that might reduce system effectiveness or be used in the development of a system with similar or advanced capabilities.

[FR Doc. 2016-00110 Filed 1-7-16; 8:45 am]

BILLING CODE 5001-06-C